DEPARTMENT OF TRANSPORTATION

Surface Transportation Board

[STB Finance Docket No. 34064]

Waccamaw Coast Line Railroad—Modified Rail Certificate

On June 25, 2001, the Waccamaw Coast Line Railroad (WCLR), a division of The Baltimore and Annapolis Railroad Company (B&A), a Class III rail carrier, filed a notice for a modified certificate of public convenience and necessity under 49 CFR part 1150, Subpart C, Modified Certificate of Public Convenience and Necessity, to operate approximately 14.1 miles of rail line owned by Horry County, SC, between the connection with the B&A d/b/a The Carolina Southern Railroad Company tracks at Station 9 + 34.65 (milepost 336.18) in the City of Conway, SC, and the end of track beyond the Intracoastal Waterway at Station 748 + 30.23 (milepost 350.17) within the limits of the City of Myrtle Beach, SC.

Horry County, SC, a political subdivision of the State of South Carolina, owns the track and right-of-way that is the subject of this notice. Horry County purchased the trackage in 1984 under 49 CFR 1150.22, after it was abandoned by the Seaboard System Railroad (now CSX Transportation, Inc.). See Seaboard System Railroad Inc.—Abandonment—In Horry County, South Carolina, ICC Docket No. AB-55 (Sub-No. 107) (ICC served Sept. 12, 1984). The trackage is approximately 14.1 miles in length, running between Conway and Myrtle Beach. Horry County received title by deed dated October 22, 1984.

The Horry County Railroad Company was the initial operator over the line, later changing its name to WCLR. Ownership of WCLR changed in 1990. A dispute subsequently developed regarding car interchange at Conway between WCLR and the Mid-Atlantic Railroad Co., Inc. (MRR), the sole interline connection for WCLR. On or about September 22, 1995, B&A, successor-in-interest to MRR, acquired most of the assets of WCLR, including the track lease, and continued operation of WCLR as a separate division under a series of a short-term leases from Horry County.

The initial term of the lease between Horry County and B&A is 30 years. The lease commenced on February 9, 2001, with one renewal term of 20 years.

The rail segment qualifies for a modified certificate of public convenience and necessity. See Common Carrier Status of States, State Agencies and Instrumentalities and Political Subdivisions, Finance Docket No. 28990F (ICC served July 16, 1981).

WCLR indicates that no subsidy is involved, that there are no preconditions for shippers to meet in order to receive rail service, and that B&A has obtained liability insurance coverage.

This notice will be served on the Association of American Railroads (Car Service Division) as agent for all railroads subscribing to the car-service and car-hire agreement: Association of American Railroads, 50 F Street, NW., Washington, DC 20001; and on the American Short Line and Regional Railroad Association: American Short Line and Regional Railroad Association, 1120 G St., NW., Suite 520, Washington, DC 20005.

Decided: July 9, 2001.
By the Board, David M. Konschnik, Director, Office of Proceedings.
Vernon A. Williams,
Secretary.

[FR Doc. 01-17580 Filed 7-12-01; 8:45 am]

BILLING CODE 4915-00-P